DEPARTMENT OF EDUCATION

National Institute on Disability and Rehabilitation Research—Disability and Rehabilitation Research Projects and Centers Program; Funding Priorities

AGENCY: Office of Special Education and Rehabilitative Services, Department of Education.

ACTION: Notice of final priorities.

SUMMARY: The Assistant Secretary for Special Education and Rehabilitative Services announces certain final priorities for the Disability and Rehabilitation Research Projects and Centers Program administered by the National Institute on Disability and Rehabilitation Research (NIDRR). Specifically, this notice announces six priorities for Disability Rehabilitation Research Projects (DRRPs); one priority for a Rehabilitation Research and Training Center (RRTC); and three priorities for Rehabilitation Engineering Research Centers (RERCs). The Assistant Secretary may use these priorities for competitions in fiscal year (FY) 2006 and later years. We take this action to focus research attention on areas of national need. We intend these priorities to improve rehabilitation services and outcomes for individuals with disabilities.

DATES: Effective Date: These priorities are effective July 3, 2006.

FOR FURTHER INFORMATION CONTACT: Donna Nangle, U.S. Department of Education, 400 Maryland Avenue, SW., room 6030, Potomac Center Plaza, Washington, DC 20202-2700. Telephone: (202) 245-7462 or via Internet: donna.nangle@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION: We published a notice of proposed priorities (NPP) for NIDRR's Disability and Rehabilitation Research Projects and Centers Program in the Federal Register on February 7, 2006 (71 FR 6318). The NPP included a background statement that described our rationale for each priority proposed in that notice.

This notice of final priorities (NFP) addresses 10 of the 15 priorities proposed in the NPP. The priorities addressed in this NFP are as follows:

• Rehabilitation of Children with Traumatic Brain Injury (TBI) (a DRRP, designated as Priority 4 in the NPP).

• Reducing Obesity and Obesity-Related Secondary Conditions in Adolescents and Adults with Disabilities (a DRRP, designated as Priority 5 in the NPP).

• Model Systems Knowledge Translation Center (MSKTC) (a DRRP, designated as Priority 6 in the NPP).

• Assistive Technology (AT) Outcomes Research Project (a DRRP, designated as Priority 7 in the NPP).

• Mobility Aids and Wayfinding Technologies for Individuals With Blindness and Low Vision (a DRRP, designated as Priority 8 in the NPP).

• Improving Employment Outcomes for the Low Functioning Deaf (LFD) Population (a DRRP, designated as Priority 9 in the NPP).

• RRTC on Effective Independent and Community Living Solutions and Measures (designated as Priority 12 in the NPP).

• RERC for Technologies for Successful Aging (designated as Priority 13 in the NPP).

• RERC for Wheelchair Transportation Safety (designated as Priority 14 in the NPP).

• RERC for Wireless Technologies (designated as Priority 15 in the NPP).

We published the following three priorities in a separate notice of final priorities in the Federal Register on April 28, 2006 (71 FR 25472):

• General DRRP Requirements (designated as Priority 1 in the NPP).

• National Data and Statistical Center for the Spinal Cord Injury (SCI) Model Systems (a DRRP, designated as Priority 2 in the NPP).

• National Data and Statistical Center for the Traumatic Brain Injury (TBI) Model Systems (a DRRP, designated as Priority 3 in the NPP).

Because of the volume of comments received in response to the NPP, NIDRR intends to publish a separate notice of final priorities for the remaining two priorities proposed in the NPP (i.e., the Disability Business Technical Assistance Centers priorities designated as Priorities 10 and 11 in the NPP). More information on these other priorities and the projects and programs that NIDRR intends to fund in FY 2006 can be found on the Internet at: http://www.ed.gov/fund/grant/apply/nidrr/priority-matrix.html.

This NFP contains several changes from the NPP. Specifically, we have made changes to the DRRP priorities for Rehabilitation of Children with Traumatic Brain Injury (TBI), Reducing Obesity and Obesity-Related Secondary Conditions in Adolescents and Adults with Disabilities, and Model Systems Knowledge Translation Center (MSKTC); and the three RERC priorities (i.e., the RERC for Technologies for Successful Aging, the RERC for Wheelchair Transportation Safety, and the RERC for Wireless Technologies). We fully explain these changes in the Analysis of Comments and Changes section that follows.

Analysis of Comments and Changes

In response to our invitation in the NPP, 51 parties submitted comments on the proposed priorities addressed in this NFP.

An analysis of the comments and the changes in the priorities since publication of the NPP follows. We discuss major issues according to general topic questions and priorities.

Generally, we do not address technical and other minor changes—and suggested changes the law does not authorize us to make under the applicable statutory authority.

Scope of Work

General

Comment: Several commenters asked whether NIDRR intends to support an RRTC that is designed to address the rehabilitation needs of persons who are deaf or hard of hearing or who are blind or vision impaired.

Discussion: At this time, NIDRR does not have plans to propose priorities for FY 2006 for any RRTCs other than the RRTC on Effective Independent and Community Living Solutions.

Changes: None.

Comment: Several commenters asked whether NIDRR plans to use the DRRP mechanism as a substitute for the RRTC program mechanism to support certain projects that have been supported under the RRTC program in the past (e.g., rehabilitation research and training on deafness and hard of hearing).

Discussion: Both the DRRP and RRTC program mechanisms have unique, valued features. In general, the DRRP program is more flexible than the RRTC program because DRRPs may include research, demonstration projects, training, and related activities that help maximize the full inclusion and integration of individuals with disabilities into society and improve the effectiveness of services authorized under the Rehabilitation Act of 1973, as amended. In contrast, RRTCs must carry out advanced programs of research, conduct training activities, and conduct technical assistance. NIDRR believes that, because of the added flexibility that the DRRP mechanism offers, in some instances it is appropriate to use it to support research, training, and related activities that previously have been supported through the RRTC program mechanism.

Changes: None.

Comment: Several commenters expressed concern that NIDRR did not include information in the proposed priorities about the resources available for the projects to be funded, such as level of funding and project duration.

Discussion: These details are not subject to public comment and, therefore, are not included in the NPP. We will include information about available resources in any notice inviting applications that NIDRR publishes for projects that it intends to fund using these priorities.

Changes: None.

Rehabilitation of Children with Traumatic Brain Injury (TBI) (a DRRP, designated as Priority 4 in the NPP).

Two parties submitted comments on the proposed DRRP priority on Rehabilitation of Children with Traumatic Brain Injury (TBI). One party provided substantive comments that require discussion in this NFP, while the other provided general positive feedback on the priority.

Comment: One commenter suggested that this priority should foster the development and validation of discipline specific outcome measures across the pediatric age spectrum so that the functional consequences of tested interventions can be accurately assessed.

Discussion: NIDRR agrees that well-validated outcome measures capable of assessing change across the pediatric age spectrum are critical. Without these measures, documentation of the functional consequences of rehabilitation interventions and transition strategies would be limited. With this priority, NIDRR is encouraging applicants to develop or test innovative approaches to treating children with TBI. This focus on treatment supports an emphasis on interventions research; however, in recognition of the important role of assessment in the measurement of treatment effectiveness, the priority has been changed to include development of outcome measures that may be used to assess the effectiveness of supported interventions and transition strategies.

Changes: Paragraphs (a) and (b) of the priority have been changed to provide for the development or testing of outcome measures necessary to assess the effectiveness of rehabilitation interventions and transition strategies for children with TBI.

Comment: One commenter suggested that the priority should require the development of mechanisms that would facilitate collaboration between multiple institutions as they work to understand and demonstrate the effects of specific interventions on children with TBI. The commenters suggested the following as examples of mechanisms that would facilitate this type of collaboration: data infrastructures with multi-institutional access, and universal flexible tools that can be used to develop multi-site collaborations.

Discussion: NIDRR recognizes the value of multi-site interventions research, particularly in light of the need for sample sizes that are large enough to allow for adequate assessment of outcomes. Nothing in the priority precludes an applicant from proposing multi-site interventions research or the development of the mechanisms necessary for this type of research. The peer review process will evaluate the merits of each proposal.

Changes: None.

Reducing Obesity and Obesity-Related Secondary Conditions in Adolescents and Adults with Disabilities (a DRRP, designated as Priority 5 in the NPP).

Four parties submitted comments on the proposed DRRP priority for Reducing Obesity and Obesity-Related Secondary Conditions in Adolescents and Adults with Disabilities. Two parties provided substantive comments that require discussion in this NFP, while the other two commenters provided general positive feedback on the priority.

Comment: One commenter suggested that requiring projects to focus their research on obesity in either the adolescent population or the adult population, rather than on both, may improve the likelihood that a research project will achieve its stated outcomes under the priority.

Discussion: NIDRR agrees that an applicant may limit its research project to focus only on obesity in the adolescent population or only on obesity in the adult population. We have revised the priority to clarify that an applicant may focus its research on one or both populations. The peer review process will evaluate the merits of each proposal.

Changes: We have revised this priority to clarify that applicants can focus their research and proposed activities on obesity either in the adolescent population or the adult population, or on obesity in both the adolescent and adult populations.

Comment: One commenter strongly recommended that the Department fund projects with proposals that reflect consumer interests.

Discussion: NIDRR agrees with this comment. Under its General DRRP Requirements priority (designated as Priority 1 in the NPP and published in the notice of final priorities in the Federal Register on April 28, 2006 (71 FR 25472)), each applicant must involve individuals with disabilities in planning and implementing the DRRP's research, training, and dissemination activities, and evaluating its work. As stated in the NPP, NIDRR intends to pair the General DRRP Requirements priority with each of the DRRP priorities proposed in the NPP. Accordingly, applicants for funding under this priority will be required to meet the requirements in the General DRRP Requirements priority as well. The requirement regarding the involvement of individuals with disabilities in the planning and implementation activities of a DRRP's work is intended to ensure that all DRRP priorities consider consumer perspectives.

Changes: None.

Model Systems Knowledge Translation Center (MSKTC) (a DRRP, designated as Priority 6 in the NPP).

One party submitted several comments on the proposed DRRP priority for the Model Systems Knowledge Translation Center (MSKTC). Some of these comments focused on the Background statement for this priority and do not require discussion in this NFP. We have responded to one comment regarding the Background statement, however, in an effort to clarify NIDRR's intent for this priority.

Comment: The commenter expressed concern that the Background statement included in the NPP for the MSKTC priority implied that the MSKTC will be responsible for disseminating materials produced from non-Model Systems Program research on SCI, TBI, and burn injury rehabilitation.

Discussion: The MSKTC will only be responsible for improving knowledge translation (KT) of research conducted within the three specified Model Systems Programs. Accordingly, the MSKTC will only be responsible for disseminating materials produced by the three Model Systems Programs specified in the priority.

Changes: None.

Comment: None.

Discussion: NIDRR has recently funded several projects that promote the KT objectives described in NIDRR's Long Range Plan. NIDRR expects that the MSKTC will collaborate with these and future NIDRR-funded projects to address KT issues of mutual interest. This collaboration may include the MSKTC's participation in the KT task forces of NIDRR's National Center for the Dissemination of Disability Research or other NIDRR-funded KT projects so that the centers can share information about the current progress being made in the development of standards, research syntheses, and evidence in disability and rehabilitation research. The MSKTC also likely will be involved in sharing KT techniques for capacity building among researchers in Model Systems projects and for informing stakeholder organizations and individuals with disabilities about quality research. The MSKTC may be funded as a cooperative agreement in order to facilitate these and similar roles.

Changes: Paragraph (b) of this priority has been changed to clarify that the MSKTC must develop partnerships and collaborate with other NIDRR-funded projects in order to achieve the outcome of enhanced knowledge of advances in SCI, TBI and Burn Injury research.

Comment: The commenter asked whether NIDRR intends for the MSKTC to conduct syntheses of research in the fields of TBI, SCI, and Burn Injury research. The commenter pointed out that conducting these types of syntheses would require assessments of material produced outside the Model Systems Programs, and would likely be beyond the scope of the MSKTC.

Discussion: To meet this priority, applicants must contribute to an enhanced understanding of the quality and relevance of the Model Systems Programs' research on SCI, TBI and Burn Injury by identifying and applying appropriate standards and methods for conducting research synthesis. Applicants, therefore, may choose to identify standards or methods that assess research produced outside the Model Systems Programs if an assessment of this research helps evaluate the quality and relevance of the Model Systems Programs' research on SCI, TBI, and Burn Injury. NIDRR expects the MSKTC to provide guidance to Model Systems researchers on standards and methods for conducting research and reporting findings to enhance the likelihood that Model Systems research is useful to numerous stakeholders, including practitioners and individuals with TBI, SCI, and Burn Injury. NIDRR is particularly interested in ensuring that any information to be disseminated by the Model Systems centers meets the highest possible standards of quality, and is based on scientifically rigorous research. NIDRR also intends to ensure that, to the extent possible, any information needed to assess the quality of research findings and the relevance of findings to the various stakeholders, including consumers, practitioners, and researchers is available to users. It is up to applicants to propose ways in which standards related to these objectives might be identified, developed, or applied. The peer review process will evaluate the merits of the proposals.

Changes: None.

Comment: The commenter requested clarification on how NIDRR intends for the MSKTC to bridge gaps between research and evidence-based practice.

Specifically, the commenter expressed concern about whether it is useful for the MSKTC to provide standards and methods for research syntheses to the Model Systems Programs since the Model Systems Programs conduct research, not research syntheses. The commenter added that requiring the MSKTC to provide information on evidence grading would be beneficial in improving research design, implementing research, and reporting findings.

Discussion: NIDRR applauds the commenter for providing an excellent summary of the purposes of the MSKTC. We would add that making research findings relevant to the various target populations is another goal of the MSKTC. While providing information on grading evidence may be an integral part of making research relevant, other strategies, including providing information on research syntheses, also may be relevant. NIDRR does not believe that it is appropriate to require all applicants to agree to provide information on evidence grading methodologies to the Model Systems Programs. That said, nothing in the priority prohibits an applicant from proposing to provide Model Systems Programs with this information. The peer review process will determine the merits of each proposal.

Changes: None.

Assistive Technology (AT) Outcomes Research Project (a DRRP, designated as Priority 7 in the NPP).

Nine parties submitted comments on the proposed DRRP priority for the Assistive Technology (AT) Outcomes Research Project. Three parties provided substantive comments that require discussion in this NFP, while the remainder of the commenters provided general positive feedback on the priority.

Comment: One commenter suggested that projects that develop a program to certify AT assessment providers should be eligible for funding under this priority.

Discussion: A project that proposes to develop a certification program for AT assessment providers may be eligible for funding under this priority if it supports the outcomes that NIDRR delineated in the priority. While NIDRR does not believe that it is appropriate to require all applicants to propose this type of program, nothing in the priority precludes an applicant from doing so. The peer review process will evaluate the merits of each proposal.

Changes: None.

Comment: One commenter suggested that this priority should include an additional outcome that focuses on the need for a unified framework for describing the impact of AT across populations and environments.

Discussion: While NIDRR agrees that a unified framework for describing the impact of AT across populations and environments should be a goal for the AT field, the development of this type of framework is beyond the scope of this priority. That said, nothing in the priority precludes an applicant from proposing to work toward the development of this type of a framework. The peer review process will evaluate the merits of each proposal.

Changes: None.

Comment: One commenter suggested that this priority should highlight the importance of outcomes associated with AT to support cognitive function.

Discussion: NIDRR agrees that AT to support cognitive function might be an excellent subject for further development for projects funded under this priority. However, NIDRR does not believe that all applicants should be required to focus their proposed research on this specific type of AT. Nothing in the priority, however, precludes an applicant from proposing to focus its research on AT to support cognitive function. The peer review process will evaluate the merits of each proposal.

Changes: None.

Mobility Aids and Wayfinding Technologies for Individuals With Blindness and Low Vision (a DRRP, designated as Priority 8 in the NPP).

Four parties submitted comments on the proposed DRRP priority on Mobility Aids and Wayfinding Technologies for Individuals With Blindness and Low Vision.

Comment: Two commenters expressed concern that the Background statement for this priority reflects a lack of understanding about the relationship between “wayfinding technologies” and “conventional approaches” to dealing with navigation and travel-related challenges facing individuals with blindness and low vision. Additionally, the commenters suggested that, in the implementation of the priority, NIDRR should require grantees to recognize that mobility skills, whether practiced through proper cane technique or use of a guide dog, are essential to safe travel and that new technology may complement but not replace mobility skills training.

Discussion: In developing this priority, NIDRR considered existing literature and reports related to wayfinding technologies, intervention strategies, and related issues; as well as the current state of the science in the areas of wayfinding technologies, intervention strategies, and orientation and mobility techniques for navigation and travel problems facing individuals with blindness and low vision. Following our review of these materials and research findings, we identified a range of critical issues surrounding wayfinding technologies and intervention strategies, including lack of consensus about terminology and effectiveness of specific intervention strategies. The priority was developed with these issues in mind. Specifically, the priority was developed because of the need for further research regarding the effectiveness of wayfinding technologies and orientation and mobility techniques for independent travel of blind and visually impaired consumers. There are many questions and positions regarding essential mobility skills for safe travel. However, there is no basis for requiring that all applicants adopt a specific theory, philosophy, orientation or principle regarding independent travel skills, techniques, or intervention strategies. The peer review process will evaluate the merits of the proposals.

Changes: None.

Comment: One commenter requested that this priority be expanded to address the mobility and wayfinding technology needs of deaf-blind individuals.

Discussion: NIDRR intends for this priority to specifically address the development of wayfinding technologies for the blind and visually impaired population. In order to be eligible for funding under this priority, applicants must propose activities focused on the areas of research specified in the priority. However, NIDRR believes that within the broad areas of research outlined in the priority, an applicant could propose to conduct research that addresses the needs of the deaf-blind population, particularly as a subpopulation of the blind and visually impaired population. NIDRR believes that it also would be appropriate for applicants to propose research that demonstrates how advances in wayfinding technologies may ultimately result in the development of solutions that will address the unique mobility challenges facing the deaf-blind population.

Changes: None.

Comment: One commenter encouraged the Department to support a project that examines the wide range of technologies addressing navigation and travel-related needs of individuals with blindness and low vision that are currently being implemented and developed in other countries. The commenter also suggested that, under this priority, wayfinding technologies should be examined in a variety of different pedestrian environments.

Discussion: NIDRR agrees that studies examining the wide range of technologies that are currently being implemented and developed worldwide, including examination of wayfinding technologies in a variety of different pedestrian environments, may be beneficial. The priority does not preclude an applicant from proposing an international focus, or an examination of wayfinding technologies in different pedestrian environments. However, NIDRR does not believe that it is appropriate to require all applicants to focus their research on one or both of these areas. The peer reviewers will assess the merits of research proposals submitted.

Changes: None.

Comment: One commenter stressed the importance of including individuals with visual impairments and their representatives in the planning and research activities of the projects funded under this priority.

Discussion: NIDRR agrees with this comment. Under its General DRRP Requirements priority (designated as Priority 1 in the NPP and published in the notice of final priorities in the Federal Register on April 28, 2006 (71 FR 25472)), each applicant must involve individuals with disabilities in planning and implementing the DRRP's research, training, and dissemination activities, and evaluating its work. As stated in the NPP, NIDRR intends to pair the General DRRP Requirements priority with each of the DRRP priorities proposed in the NPP. Accordingly, applicants for funding under this priority will be required to meet the requirements in the General DRRP Requirements priority as well.

Changes: None.

Improving Employment Outcomes for the Low Functioning Deaf (LFD) Population (a DRRP, designated as Priority 9 in the NPP).

Nine parties submitted comments on the proposed DRRP priority on Improving Employment Outcomes for the Low Functioning Deaf (LFD) Population.

Comment: Several commenters requested information on whether NIDRR intends to develop a separate priority that will focus on the needs of the 29 million persons identified as deaf, hard of hearing, late deafened, and language deprived.

Discussion: NIDRR and the Department's Rehabilitation Services Administration (RSA) have supported research activities that target the broader population of persons with hearing loss for more than 40 years. Although NIDRR is sensitive to the continuing rehabilitation needs of members of this broader population, we have determined that there is a need for research that focuses on the special needs of the sub-population of low functioning deaf. At this time, NIDRR does not intend to develop a separate priority that focuses on the broader population of persons with hearing loss for FY 2006.

Changes: None.

Comment: One commenter would like to see additional research focusing on employment opportunities for working age persons with deaf-blindness and also, additional research related to employment issues and deafness.

Discussion: While NIDRR recognizes the importance of studies examining employment issues and deafness, and the needs of working age persons with deaf-blindness, the population of individuals who are LFD is the target population for this priority. Research literature addressing the LFD population is limited. Moreover, NIDRR's own research portfolio currently does not include research that focuses on the LFD population. In contrast, NIDRR currently supports research on the employment of individuals with blindness and deafness, as well as a major study of blindness, deafness, and aging. Therefore, we believe that research targeting the LFD population will address a gap in current research, including NIDRR's own research portfolio; enhance our understanding about individuals who are deaf; and assist to improve outcomes for the LFD population.

Changes: None.

RRTC on Effective Independent and Community Living Solutions and Measures(designated as Priority 12 in the NPP).

Three parties submitted comments on the proposed priority for an RRTC on Effective Independent and Community Living Solutions and Measures.

Comment: One commenter suggested that this priority may not be supportable under the statutory language authorizing research grants for RRTCs. The commenter suggested that the priority's focus on participation by individuals at home, in the community, or in educational or workplace activities was at odds with a requirement that RRTCs focus exclusively on the ability of individuals with disabilities to prepare for, secure, retain, regain, or advance in employment.

Discussion: NIDRR does not agree that RRTCs are required to focus exclusively on the ability of individuals with disabilities to prepare for, secure, retain, regain, or advance in employment or that the priority is inconsistent with the RRTC regulatory or statutory authority. Nothing in section 204 of the Rehabilitation Act of 1973, as amended, requires RRTC research grants to focus exclusively on the ability of individuals with disabilities to prepare for, secure, retain, regain, or advance in employment. Moreover, the purpose of RRTCs, as stated in the Department's regulations, is to (a) develop methods, procedures, and rehabilitation technology, that maximize the full inclusion and integration into society, employment, and independent living, family support, and economic and social self-sufficiency of individuals with disabilities, especially individuals with the most severe disabilities; and (b) improve the effectiveness of services authorized under the Rehabilitation Act of 1973, as amended (see 34 CFR 350.2 and 350.20). RRTCs conduct coordinated and integrated advanced programs of research targeted toward the production of new knowledge to improve rehabilitation methodology and service delivery systems, alleviate or stabilize disability conditions, or promote maximum social and economic independence for persons with disabilities (see 34 CFR 350.22(a)). The emphasis of this priority is to enhance community living and participation in accordance with NIDRR's mission and its Long Range Plan. As reflected in NIDRR's overall portfolio of grants, we recognize the central role of employment for many individuals with disabilities. Nothing in this priority prohibits applicants from proposing research activities that address employment issues. The peer review process will evaluate the merits of each proposal.

Changes: None.

Comment: One commenter suggested that NIDRR should require the grantee under this priority to cooperate with NIDRR's RRTC on Employment Policy for Persons with Disabilities and its RRTC on Disability Statistics and Demographics. The commenter noted that problems faced by persons with disabilities are multi-faceted and that the process of knowledge translation and capacity building could be supported by cooperative ventures.

Discussion: We agree that outcomes for individuals with disabilities can be enhanced through coordination among NIDRR grantees. All NIDRR RRTCs must carry out coordinated advanced programs of rehabilitation research. As with other NIDRR grants, the NIDRR project officer for the grantee supported under this priority will work with the grantee to facilitate appropriate coordination with other NIDRR-supported RRTCs.

Changes: None.

Comment: One commenter suggested that this priority should require grantees to develop concise and sensitive measures of accessibility for different types of impairment-related needs. In addition, the commenter identified a need for the development of sampling frames and statistical criteria for determining sample size. The commenter also suggested that grantees should be required to develop and assess sources of indicators for environmental barriers to full participation.

Discussion: NIDRR agrees that it is important to develop measures of accessibility for different types of impairment-related needs, along with sample frames and statistical criteria for determining sample size. Through our research portfolio, we already support work in this area. That said, nothing in this RRTC priority prohibits applicants from proposing the specific research activities suggested by the commenter. The peer review process will evaluate the merits of each proposal.

Changes: None.

Comment: One commenter requested clarification on whether paragraph (b) of this priority requires research projects to focus solely on the implementation of the Olmstead v. L.C. (527 U.S. 581) decision, or if the priority allows for the evaluation of other aspects of the Olmstead decision as well. The commenter identified a number of potential research areas that go beyond the implementation of Olmstead, such as examination of the principles and philosophy of the decision as it applies to individuals with disabilities in different contexts, or examination of how the principles and philosophy of the decision have affected other cross disability populations in different contexts.

Discussion: In accordance with Executive Order 13217, NIDRR's mission, and its Long Range Plan, we are committed to support research that will maximize the availability of high quality community-based practices, programs, and services for individuals with disabilities. Successful implementation of the Olmstead decision requires that we understand and alleviate barriers to community living and that we maximize resources that facilitate community living. NIDRR believes that a broad array of research questions relating to the implementation of the Olmstead decision, including those areas proposed by the commenter, may be proposed under this priority. The peer review process will evaluate the merits of each proposal.

Changes: None.

Rehabilitation Engineering Research Centers (RERCs) (designated as Priorities 13, 14 and 15 in the NPP).

Nine parties submitted comments on the three proposed priorities for RERCs.

General

Comment: One commenter suggested that rather than requiring RERC grantees to develop plans to involve individuals with disabilities in their projects after they receive an award (i.e., within the first three months of the project period), it makes more sense to require all applicants to include these plans in their proposals. In this way, the plans would be peer reviewed as part of the application review process.

Discussion: NIDRR agrees that all RERC applicants should be required to include their plans to involve individuals with disabilities in their proposals.

Changes: The RERC requirement pertaining to plans for involving individuals with disabilities or their representatives in all phases of the RERC's activities that applicants under each priority must address has been revised to require applicants to include their plans to involve people with disabilities in their proposals.

Comment: One commenter suggested that all RERC applicants should be required to include plans to disseminate their research results in their proposal, as opposed to being required to develop these plans after receiving an award.

Discussion: NIDRR agrees that all RERC applicants should include plans to disseminate their research results in their proposals. These dissemination plans will be evaluated by the peer review panel using the Department's Design of dissemination activities selection criteria in 34 CFR 350.54(g).

Changes: The RERC requirement pertaining to dissemination plans that applicants under each priority must address has been revised to require applicants to include their plans to disseminate research results in their proposals.

Comment: One commenter suggested that all RERC applicants should be required to include their plans to transfer developed technologies to the marketplace in their proposals, as opposed to being required to develop these plans after receiving an award.

Discussion: The RERC priorities contain a requirement that each RERC must have the capability to assist in the transfer of successful solutions to relevant production and service delivery settings. The applicant's response to this requirement in its application will be considered as part of the peer reviewers' review of the applicant's proposed development activities. NIDRR believes that, with this information, the peer reviewers will be able to evaluate whether the applicant has the capability to transfer developed technologies to the marketplace.

Changes: None.

RERC for Technologies for Successful Aging (designated as Priority 13 in the NPP).

Comment: One commenter urged NIDRR to incorporate the principles of universal design in the priority for the RERC for Technologies for Successful Aging.

Discussion: NIDRR has long supported and advocated the principles of universal design and agrees that this priority should address the importance of universal design in product research and development.

Changes: We have revised this priority to require grantees to emphasize the principles of universal design in their product research and development.

Comment: One commenter suggested that this priority should include a focus on assistive technologies for cognition.

Discussion: NIDRR agrees that an RERC funded under this priority may research, develop, and evaluate assistive technologies for cognition. An applicant could propose activities that focus on assistive technologies for cognition and the peer review process will evaluate the merits of the applicant's proposal.

Changes: None.

Comment: One commenter stated that this priority should require applicants to address human-technology interfaces or operating controls for persons with vision impairment.

Discussion: NIDRR agrees that human-technology interfaces are critical for device utility. An applicant could propose activities that include the research, development, or evaluation of human-technology interfaces or operating controls for persons with vision impairment and the peer review process will evaluate the merits of the applicant's proposal.

Changes: None.

RERC for Wheelchair Transportation Safety (designated as Priority 14 in the NPP).

Comment: Four commenters stated that the priority for the RERC for Wheelchair Transportation Safety needed an additional statement to clarify the intent of the priority.

Discussion: NIDRR agrees that the addition of a qualifying statement will help clarify the intent of this priority. The intent of this priority is to improve the safety and independence of wheelchair users who remain seated in their wheelchairs while using public and private transportation services.

Changes: The priority has been revised to emphasize that the focus of the RERC's activities on wheeled mobility devices and wheelchair seating systems must relate to their use in the transportation environment.

Comment: One commenter stated that this priority should require applicants to improve the state of the science, design guidelines and performance standards, and usability of wheelchair securement and occupant restraint systems.

Discussion: NIDRR agrees that improvement in the state of the science, design guidelines and performance standards, and usability of wheelchair securement and occupant restraint systems would be beneficial to persons using wheelchairs. Nothing in this priority prohibits an applicant from proposing activities that improve the state of the science, design guidelines and performance standards, and usability of wheelchair securement and occupant restraint systems. The peer review process will evaluate the merits of each applicant's proposal.

Changes: None.

Comment: One commenter stated that this priority should address the safe use of scooters and large wheelchairs in transportation environments.

Discussion: NIDRR agrees that the increased use of scooters and large wheelchairs in the transportation environment deserves attention. An applicant could propose activities that include research and evaluation of scooter and large wheelchair use in transportation environments; the peer review process will evaluate the merits of each applicant's proposal.

Changes: None.

RERC for Wireless Technologies (designated as Priority 15 in the NPP).

Comment: One commenter urged NIDRR to incorporate the principles of universal design in the priority for the RERC for Wireless Technologies.

Discussion: NIDRR has long supported and advocated the principles of universal design and agrees that this priority should address the importance of universal design in product research and development.

Changes: We have revised this priority to require grantees to emphasize the principles of universal design in their product research and development.

Note: This notice does not solicit applications. In any year in which we choose to use one or more of these priorities, we invite applications through a notice in the Federal Register. When inviting applications we designate each priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the competitive preference priority (34 CFR 75.105(c)(2)(i)); or (2) selecting an application that meets the competitive preference priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

Note: This NFP is in concert with President George W. Bush's New Freedom Initiative (NFI) and NIDRR's Final Long-Range Plan for FY 2005-2009 (Plan). The NFI can be accessed on the Internet at the following site: http://www.whitehouse.gov/infocus/newfreedom.

The Plan, which was published in the Federal Register on February 15, 2006 (71 FR 8165), can be accessed on the Internet at the following site: http://www.ed.gov/about/offices/list/osers/nidrr/policy.html.

Through the implementation of the NFI and the Plan, NIDRR seeks to—(1) Improve the quality and utility of disability and rehabilitation research; (2) Foster an exchange of expertise, information, and training to facilitate the advancement of knowledge and understanding of the unique needs of traditionally underserved populations; (3) Determine best strategies and programs to improve rehabilitation outcomes for underserved populations; (4) Identify research gaps; (5) Identify mechanisms of integrating research and practice; and (6) Disseminate findings.

Priorities

Disability and Rehabilitation Research Projects (DRRP) Program

The purpose of the DRRP program is to plan and conduct research, demonstration projects, training, and related activities to develop methods, procedures, and rehabilitation technology that maximize the full inclusion and integration into society, employment, independent living, family support, and economic and social self-sufficiency of individuals with disabilities, especially individuals with the most severe disabilities, and to improve the effectiveness of services authorized under the Rehabilitation Act of 1973, as amended. DRRPs carry out one or more of the following types of activities, as specified and defined in 34 CFR 350.13 through 350.19: research, development, demonstration, training, dissemination, utilization, and technical assistance.

An applicant for assistance under this program must demonstrate in its application how it will address, in whole or in part, the needs of individuals with disabilities from minority backgrounds (34 CFR 350.40(a)). The approaches an applicant may take to meet this requirement are found in 34 CFR 350.40(b). In addition, NIDRR intends to require all DRRP applicants to meet the requirements of the General DRRP Requirements priority that it published in a notice of final priorities in the Federal Register on April 28, 2006 (71 FR 25472).

Additional information on the DRRP program can be found at: http://www.ed.gov/rschstat/research/pubs/res-program.html#DRRP.

Rehabilitation of Children With Traumatic Brain Injury (TBI)

Priority

The Assistant Secretary for Special Education and Rehabilitative Services establishes a priority for the funding of a Disability Rehabilitation Research Project (DRRP) on the Rehabilitation of Children with Traumatic Brain Injury (TBI). Under this priority, the DRRP must be designed to contribute to the following outcomes:

(a) Improved physical, cognitive, social/behavioral, family, educational, or employment outcomes for children with TBI by developing or testing rehabilitation interventions, the measures needed to assess the effectiveness of rehabilitation interventions, or both.

(b) Improved transition of children from health care facilities to school and community by developing or testing effective transition strategies, the measures needed to assess the effectiveness of transition strategies, or both.

(c) Improved TBI screening and special education services for children by developing or testing methods and procedures for use in school settings.

Reducing Obesity and Obesity-Related Secondary Conditions in Adolescents and Adults With Disabilities

Priority

The Assistant Secretary for Special Education and Rehabilitative Services establishes a priority for the funding of a Disability Rehabilitation Research Project (DRRP) on Disability and Obesity: Reducing Obesity and Obesity-Related Secondary Conditions in Adolescents and Adults with Disabilities. Under this priority, the DRRP must be designed to contribute to the following outcomes:

(a) Enhanced understanding of the antecedents and consequences of obesity as a secondary condition among adolescents, adults, or both adolescents and adults with different types of pre-existing physical, sensory, cognitive, and behavioral-health impairments.

(b) Improved obesity screening and diagnosis among adolescents, adults or both adolescents and adults with different types of disabilities by developing or testing effective screening and diagnostic methods and procedures.

(c) Improved outcomes for adolescents, adults, or both adolescents and adults with disabilities with obesity by development or testing of prevention strategies and treatments.

Model Systems Knowledge Translation Center (MSKTC)

Priority

The Assistant Secretary for Special Education and Rehabilitative Services establishes a priority for the funding of a Disability Rehabilitation Research Project to serve as the Model Systems Knowledge Translation Center (MSKTC). Under this priority, the MSKTC must be designed to contribute to the following outcomes:

(a) Enhanced understanding of the quality and relevance of NIDRR's Spinal Cord Injury (SCI), Traumatic Brain Injury (TBI), and Burn Injury (Burn) Model Systems Programs' findings. The MSKTC must contribute to this outcome by identifying and applying appropriate standards and methods for conducting research syntheses. This will allow the Model Systems Programs to bridge gaps in evidence-based practice and research.

(b) Enhanced knowledge of advances in SCI, TBI, and Burn research among consumers, clinicians, and other end users of such information. The MSKTC must contribute to this outcome by (1) identifying effective strategies for, and guiding targeted dissemination of, SCI, TBI, and Burn Model Systems Programs' findings about available services and interventions for individuals with SCI, TBI, and Burn; and (2) developing partnerships and collaborating with key constituencies, other NIDRR-funded projects (e.g., the National Center for the Dissemination of Disability Research and the National Rehabilitation Information Center), and groups conducting similar work.

(c) Centralization of SCI, TBI, and Burn Model Systems resources for effective and uniform dissemination and technical assistance. The MSKTC must contribute to this outcome by serving as a centralized resource for the SCI, TBI, and Burn Model Systems Centers.

Assistive Technology (AT) Outcomes Research Project

Priority

The Assistant Secretary for Special Education and Rehabilitative Services establishes a priority for the funding of a Disability Rehabilitation Research Project (DRRP) for an Assistive Technology (AT) Outcomes Research Project. Under this priority, the DRRP must be designed to contribute to the following outcomes:

(a) Improvement of the AT field's ability to measure the impact of AT on the lives of people with disabilities by continuing to develop AT outcomes measures and measurement systems.

(b) Improvement of the AT field's ability to measure the impact of AT on the lives of people with disabilities by developing validated methods for measuring and classifying AT interventions, including key characteristics of both the AT device and AT provision (e.g., setting, assessment, fit/customization, user-training, and device maintenance).

(c) Enhanced understanding of the impact of AT on the lives of people with disabilities by conducting at least one research project that systematically applies state-of-the-science measures of AT interventions, outcomes, and data collections mechanisms.

(d) Collaboration with the relevant NIDRR-sponsored projects, such as the Rehabilitation Research Training Center on Measuring Rehabilitation Outcomes and relevant projects within the Rehabilitation Engineering Research Center program, as identified through consultation with the NIDRR project officer.

Mobility Aids and Wayfinding Technologies for Individuals With Blindness and Low Vision

Priority

The Assistant Secretary for Special Education and Rehabilitative Services establishes a priority for the funding of a Disability Rehabilitation Research Project (DRRP) on Mobility Aids and Wayfinding Technologies for Individuals With Blindness and Low Vision. To meet this priority, the DRRP must be designed to contribute to the following outcomes:

(a) Effective technology solutions and intervention approaches that can enable blind and low vision individuals to safely and independently navigate their surroundings. The DRRP must contribute to this outcome by identifying or developing and testing methods, models, and measures that will inform the technology solutions and intervention approaches.

(b) Improved understanding about the effectiveness of wayfinding technology and orientation and mobility (O&M) techniques for navigation and travel problems. The DRRP must be designed to contribute to this outcome by, at a minimum, conducting comparative analysis of outcomes for specific subpopulations of individuals with blindness and low vision who use O&M techniques and wayfinding technology.

(c) Increased technical and scientific knowledge about the applications of navigation and travel technologies for individuals with blindness and low vision, leading to more effective use of technologies and intervention strategies, through the development of knowledge translation and utilization activities.

(d) Coordination of research activities. The DRRP must contribute to this outcome by collaborating and consulting with relevant Federal agencies responsible for the administration of public laws that address access to and usability of transportation and transit-related systems and environmental structures for individuals with disabilities, such as the Architectural and Transportation Barriers Compliance Board, the U.S. Department of Transportation's Federal Highway Administration, Federal Transit Administration and National Highway Traffic Safety Administration, and relevant NIDRR-funded research projects as identified through consultation with the NIDRR project officer.

Improving Employment Outcomes for the Low Functioning Deaf (LFD) Population

Priority

The Assistant Secretary for Special Education and Rehabilitative Services establishes a priority for the funding of a Disability Rehabilitation Research Project (DRRP) on Improving Employment Outcomes for the Low Functioning Deaf (LFD) Population. Under this priority, the DRRP must be designed to contribute to the following outcomes:

(a) Enhanced knowledge about the unique functional and communication characteristics of the LFD population and the extent to which these characteristics affect disability and rehabilitation outcomes, including labor force participation and employment preparation. The DRRP must contribute to this outcome by developing and testing protocols that accurately measure population characteristics; and psychometrically sound instruments that measure predictors of disability, rehabilitation, and employment outcomes.

(b) Improved employment outcomes and reduction of barriers to labor force participation for individuals who are LFD. The DRRP must contribute to this outcome by developing theory-based intervention strategies and methods that help to enhance functional skills, social interaction, communication and literacy competencies, and scientifically-sound approaches for identifying barriers to labor force participation.

(c) Collaboration with NIDRR-sponsored projects, including the Rehabilitation Research and Training Center (RRTC) on Measuring Rehabilitation Outcomes and other relevant projects within NIDRR's RRTC and Field Initiated programs.

Rehabilitation Research and Training Centers (RRTCs)

RRTCs conduct coordinated and integrated advanced programs of research targeted toward the production of new knowledge to improve rehabilitation methodology and service delivery systems, alleviate or stabilize disability conditions, or promote maximum social and economic independence for persons with disabilities. Additional information on the RRTC program can be found at: http://www.ed.gov/rschstat/research/pubs/res-program.html#RRTC.

General Requirements of RRTCs

RRTCs must—

• Carry out coordinated advanced programs of rehabilitation research;

• Provide training, including graduate, pre-service, and in-service training, to help rehabilitation personnel more effectively provide rehabilitation services to individuals with disabilities;

• Provide technical assistance to individuals with disabilities, their representatives, providers, and other interested parties;

• Demonstrate in their applications how they will address, in whole or in part, the needs of individuals with disabilities from minority backgrounds;

• Disseminate informational materials to individuals with disabilities, their representatives, providers, and other interested parties; and

• Serve as centers of national excellence in rehabilitation research for individuals with disabilities, their representatives, providers, and other interested parties.

Rehabilitation Research and Training Center (RRTC) on Effective Independent and Community Living Solutions and Measures

Priority

The Assistant Secretary establishes a priority for the funding of a Rehabilitation Research and Training Center (RRTC) on Effective Independent and Community Living Solutions and Measures. To meet this priority, the RRTC's research must be designed to contribute to the following outcomes:

(a) Enhanced participation by individuals with disabilities at home, in the community, or in educational or workplace activities through development of effective theory-based intervention methods and outcome measures.

(b) Improved intervention approaches and guidelines that help to remove or reduce barriers to full community integration and participation for individuals with disabilities. The RRTC must contribute to this outcome by conducting rigorous research examining the implementation of the Olmstead v. L.C. (527 U.S. 581) decision and practices that serve as facilitators or barriers to independent and community living.

(c) Improved understanding about the economic utility of existing or proposed policies and practices to maximize independence and participation for individuals with disabilities through development of scientifically sound, valid and reliable methods and measures to assess these policies and practices.

Rehabilitation Engineering Research Centers Program General Requirements of Rehabilitation Engineering Research Centers (RERCs)

RERCs carry out research or demonstration activities in support of the Rehabilitation Act of 1973, as amended, by—

• Developing and disseminating innovative methods of applying advanced technology, scientific achievement, and psychological and social knowledge to (a) solve rehabilitation problems and remove environmental barriers and (b) study and evaluate new or emerging technologies, products, or environments and their effectiveness and benefits; or

• Demonstrating and disseminating (a) innovative models for the delivery of cost-effective rehabilitation technology services to rural and urban areas and (b) other scientific research to assist in meeting the employment and independent living needs of individuals with severe disabilities; or

• Facilitating service delivery systems change through (a) the development, evaluation, and dissemination of consumer-responsive and individual and family-centered innovative models for the delivery to both rural and urban areas of innovative cost-effective rehabilitation technology services and (b) other scientific research to assist in meeting the employment and independence needs of individuals with severe disabilities.

Each RERC must provide training opportunities, in conjunction with institutions of higher education and nonprofit organizations, to assist individuals, including individuals with disabilities, to become rehabilitation technology researchers and practitioners.

Additional information on the RERC program can be found at: http://www.ed.gov/rschstat/research/pubs/index.html.

Rehabilitation Engineering Research Centers (RERCs) for Technologies for Successful Aging, Wheelchair Transportation Safety, and Wireless Technologies

Priorities

The Assistant Secretary for Special Education and Rehabilitative Services establishes the following three priorities for the funding of (a) an RERC for Technologies for Successful Aging, (b) an RERC for Wheelchair Transportation Safety, and (c) an RERC for Wireless Technologies. Within its designated priority research area, each RERC will focus on innovative technological solutions, new knowledge, and concepts that will improve the lives of persons with disabilities.

(a) RERC for Technologies for Successful Aging. Under this priority, the RERC must research, develop and evaluate innovative technologies and approaches that will improve the quality of life of older persons with disabilities and promote health, safety, independence, and active engagement. The RERC must emphasize the principles of universal design in its product research and development.

(b) RERC for Wheelchair Transportation Safety. Under this priority, the RERC must research, develop, and evaluate innovative technologies and strategies that will improve the safety and independence of wheelchair users who remain seated in their wheelchairs while using public and private transportation services. The RERC must research and develop innovative technologies and strategies that will improve the current state of the science, design guidelines and performance standards, and usability of wheeled mobility devices and wheelchair seating systems for use in the transportation environment.

(c) RERC for Wireless Technologies. Under this priority, the RERC must research, develop, and evaluate innovative technologies that facilitate equitable access to, and use of, future generations of wireless technologies for individuals with disabilities of all ages. The RERC must emphasize the principles of universal design in its product research and development.

Under each priority, the RERC must be designed to contribute to the following programmatic outcomes:

(1) Increased technical and scientific knowledge-base relevant to its designated priority research area.

(2) Innovative technologies, products, environments, performance guidelines, and monitoring and assessment tools as applicable to its designated priority research area. The RERC must contribute to this outcome by developing and testing of these innovations.

(3) Improved research capacity in its designated priority research area. The RERC must contribute to this outcome by collaborating with the relevant industry, professional associations, and institutions of higher education.

(4) Improved focus on cutting edge developments in technologies within its designated priority research area. The RERC must contribute to this outcome by identifying and communicating with NIDRR and the field regarding trends and evolving product concepts related to its designated priority research area.

(5) Increased impact of research in the designated priority research area. The RERC must contribute to this outcome by providing technical assistance to public and private organizations, persons with disabilities, and employers on policies, guidelines, and standards related to its designated priority research area.

In addition, under each priority, the RERC must—

• Have the capability to design, build, and test prototype devices and assist in the transfer of successful solutions to relevant production and service delivery settings;

• Evaluate the efficacy and safety of its new products, instrumentation, or assistive devices;

• Provide as part of its proposal and then implement a plan that describes how it will include, as appropriate, individuals with disabilities or their representatives in all phases of its activities, including research, development, training, dissemination, and evaluation;

• Provide as part of its proposal and then implement, in consultation with the NIDRR-funded National Center for the Dissemination of Disability Research, a plan to disseminate its research results to persons with disabilities, their representatives, disability organizations, service providers, professional journals, manufacturers, and other interested parties;

• Develop and implement in the first year of the project period, in consultation with the NIDRR-funded RERC on Technology Transfer, a plan for ensuring that all new and improved technologies developed by the RERC are successfully transferred to the marketplace;

• Conduct a state-of-the-science conference on its designated priority research area in the third year of the project period and publish a comprehensive report on the final outcomes of the conference in the fourth year of the project period; and

• Coordinate research projects of mutual interest with relevant NIDRR-funded projects, as identified through consultation with the NIDRR project officer.

Executive Order 12866

This NFP has been reviewed in accordance with Executive Order 12866. Under the terms of the order, we have assessed the potential costs and benefits of this regulatory action.

The potential costs associated with this NFP are those resulting from statutory requirements and those we have determined as necessary for administering this program effectively and efficiently.

In assessing the potential costs and benefits—both quantitative and qualitative—of this NFP, we have determined that the benefits of the final priorities justify the costs.

Summary of Potential Costs and Benefits

The potential costs associated with these final priorities are minimal while the benefits are significant. Grantees may incur some costs associated with completing the application process in terms of staff time, copying, and mailing or delivery. The use of e-Application technology reduces mailing and copying costs significantly.

The benefits of the Disability and Rehabilitation Research Projects and Centers Programs have been well established over the years in that similar projects have been completed successfully. These final priorities will generate new knowledge and technologies through research, development, dissemination, utilization, and technical assistance projects.

Another benefit of these final priorities is that the establishment of new DRRPs, a new RRTC, and new RERCs will support the President's NFI and will improve the lives of persons with disabilities. The new DRRPs, RRTC, and RERCs will generate, disseminate, and promote the use of new information that will improve the options for individuals with disabilities.

Applicable Program Regulations: 34 CFR part 350.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Numbers 84.133A Disability Rehabilitation Research Projects, 84.133B Rehabilitation Research and Training Centers Program, and 84.133E Rehabilitation Engineering Research Centers Program)

Program Authority: 29 U.S.C. 762(g), 764(a), 764(b)(2), and 764(b)(3).

Dated: May 23, 2006.
John H. Hager,
Assistant Secretary for Special Education and Rehabilitative Services.

[FR Doc. 06-4935 Filed 6-1-06; 8:45 am]

BILLING CODE 4000-01-P